EXPORT-IMPORT BANK OF THE U.S.

[Public Notice 2010-0056]

Agency Information Collection Activities: Final Collection; Comment Request

AGENCY: Export-Import Bank of the U.S.

ACTION: Submission for OMB Review and Comments Request.

Form Title: Report of Premiums Payable for Exporters Only (EIB 92-29).

SUMMARY: The Export-Import Bank of the United States (Ex-Im Bank), as a part of its continuing effort to reduce paperwork and respondent burden, invites the general public and other Federal Agencies to comment on the proposed information collection, as required by the Paperwork Reduction Act of 1995.

The Report of Premiums Payable for Exporters Only is used to determine the eligibility of the shipment(s) and to calculate the premium due to Ex-Im Bank for its support of the shipment(s) under its insurance program. Export-Import Bank customers will be able to submit this form on paper or electronically.

The Export-Import Bank has made changes to incorporate additional flexibility in identifying eligible U.S. content, as well as adding an additional report (the Content Report) for use only in those cases where the company chooses to make use of some aspects of the additional flexibility. Customers who do not meet the eligibility requirements for the additional flexibility or who chose only to make use of the flexibility in the percentage of U.S. content do not need to complete the Content Report. In addition to the changes to reflect the additional content flexibility, we also deleted the option of “Ex-Im Bank Sole Risk” as an obligor type; added the option “CAD or SDDP” to the terms; deleted the “Sight Payments (non-letter of credit) from the terms, and further broke out the frequency of repayment terms to include: 1-30 Days, 31-60 Days, 61-90 Days, and 91-120 Days.

DATES: Comments should be received on or before December 23, 2010 to be assured of consideration.

ADDRESSES: Comments may be submitted electronically on http://www.regulations.gov or by mail to Office of Information and Regulatory Affairs, 725 17th Street, NW., Washington, DC 20038 attn: OMB 3048-0017.

SUPPLEMENTARY INFORMATION: Titles and Form Number: EIB 92-29. Report of Premiums Payable for Exporters Only.

OMB Number: 3048-0017.

Type of Review: Regular.

Need and Use: The information collected enables Ex-Im Bank to determine the eligibility of the shipment(s) and to calculate the premium due to Ex-Im Bank for its support of the shipment(s) under its insurance program.

Affected Public: This form affects entities involved in the export of U.S goods and services.

Annual Number of Respondents: 1,900.

Estimated Time per Respondent: 15 minutes.

Government Annual Burden Hours: 5,700 hours.

Frequency of Reporting or Use: Monthly.

Sharon A. Whitt,
Agency Clearance Officer.

[FR Doc. 2010-29467 Filed 11-22-10; 8:45 am]

BILLING CODE 6690-01-P